ENVIRONMENTAL PROTECTION AGENCY

[OECA-2004-0045; FRL-7817-3]

Agency Information Collection Activities: Proposed Collection; Comment Request; Region 7 Lead Education and Awareness Project in St. Louis, MO (Agency Information Collection), EPA ICR Number 2161.01

AGENCY: Environmental Protection Agency (EPA).

ACTION: Notice.

SUMMARY: In compliance with the Paperwork Reduction Act (44 U.S.C. 3501 et seq.) This notice announces that the EPA is planning to submit the following proposed Information Collection Request (ICR) to the Office of Management and Budget (OMB): Compliance Assistance Surveys for the Lessors and Lessees Sectors, EPA ICR Number 2161.01. This is a request for a new collection and this information request has no prior OMB Control Number. Before submitting the ICR to OMB for review and approval, the EPA is soliciting comments on specific aspects of the proposed information collection as described below.

DATES: Comments must be submitted on or before November 22, 2004.

ADDRESSES: Submit your comments, referencing docket ID number OECA-2004-0045, to EPA online using EDOCKET (our preferred method), by e-mail to docket.oeca@epa.gov, or by mail to: EPA Docket Center, Environmental Protection Agency, OECA Docket, 1200 Pennsylvania Ave., NW., Washington, DC 20460.

FOR FURTHER INFORMATION CONTACT: Carolyn Scully, OECA Docket Center, Environmental Protection Agency, 1200 Pennsylvania Ave., NW., Washington, DC 20460; telephone number: (202) 566-1752; e-mail address: CarolynScully/DC/USEPA/US.

SUPPLEMENTARY INFORMATION: EPA has established a public docket for this ICR under Docket ID number OECA-2004-0045, which is available for public viewing at the OECA Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OECA Docket is (202) 566-1752. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected Entities: Entities potentially affected by this action are the following:

• Lessors located in areas of high risk for lead poisoning in St. Louis, Missouri

• Lessees located in areas of high risk for lead poisoning in St. Louis, Missouri

Title: Region 7 Lead Education and Awareness Project in St. Louis, Missouri (Agency Information Collection); EPA ICR Number 2161.01.

Abstract: EPA Region 7 and the Office of Compliance (OC) within the Office of Enforcement and Compliance Assurance (OECA) are planning to conduct a performance baseline survey and follow-up survey for the Lessors and Lessees sectors. The OC is interested in having a baseline performance survey conducted and compliance assistance needs assessed for the Lessors sector. In addition, OC is interested in assessing the awareness and behavioral change of Lessees through a survey. There are three main purposes for these Lessor and Lessee surveys:

(1) To determine a baseline level of regulatory awareness of and compliance with the “Residential Lead-Based Paint Hazard Reduction Act of 1992” (Title X) and the “Requirements for Disclosure of Known Lead-Based Paint and/or Lead-Based Paint Hazards in Housing” rule (Disclosure Rule), from which to measure the success of the Agency's compliance outreach efforts for reporting under the Government Performance and Results Act (GPRA). For key sectors for which EPA is planning to initiate compliance assistance, a baseline level of compliance and regulatory awareness is needed from which to measure future progress.

(2) To determine the effectiveness of the Department of Housing and Urban Development's (HUD) education and outreach efforts.

(3) To determine whether lessees are reading and understanding the Protect Your Family From Lead In Your Home pamphlet and whether they are implementing methods to reduce lead exposure as a result.

The EPA Region 7 is planning targeted Disclosure Rule inspections in high risk areas of St. Louis, Missouri during FY2005 and/or FY2006. The activities planned under the Statistically Valid Compliance Assistance Rate study are designed to determine the baseline rate of lessors' compliance with the Disclosure Rule and whether lessees are reading and understanding the Protect Your Family From Lead In Your Home pamphlet and implementing methods to reduce exposure to lead. The EPA would like to conduct statistically valid voluntary surveys with a sample size of approximately 150 respondents. These surveys will be used to establish a performance baseline at the start of the study. A follow-up survey will then be conducted to determine progress against the baseline.

The OECA has adopted a sector approach for many of its compliance assistance activities. The lessor sector is an example of a sector for which EPA has focused many of its compliance assistance activities. There is considerable debate as to the extent of regulatory compliance, the need for additional compliance assistance, and the effectiveness of compliance assistance methods and materials developed for this sector. The OECA would like to conduct a statistically valid voluntary survey and site-visit survey of a sample of lessor venues in areas of high risk for lead poisoning in St. Louis, Missouri to determine a performance snapshot of this sector which reflects current sector performance with respect to the Disclosure Rule. The surveys will be conducted as a voluntary blind sample (i.e., the lessors' identities will be unknown to EPA and the lessors will participate voluntarily). The results of the survey will provide OECA with information on compliance assistance applicable to this sector and information from which to measure the success of OECA's compliance assistance programs for Government Performance and Results Act (GPRA) reporting purposes.

The EPA Region 7 will evaluate the need for educational outreach for an additional sector: lessees in areas of St. Louis, Missouri at high risk for lead poisoning. Sufficient data are not available in EPA's databases to evaluate the current rate at which lessees are reading the EPA pamphlet, Protect Your Family From Lead In Your Home, and are implementing behavioral changes to reduce lead exposure as a result. Therefore, OECA is interested in determining:

• The level of regulatory awareness and compliance in the lessor sector;

• Areas of noncompliance and root causes of noncompliance;

• The need for compliance assistance for the lessor sector; and

• The need for educational outreach for the lessee sector.

The OECA is soliciting comment on whether to conduct a statistically valid voluntary survey and site-visit survey of a sample of lessors and a site-visit survey of a sample of lessees in high risk areas of St. Louis.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology (e.g., permitting electronic submission of responses).

Burden Statement: The baseline surveys being requested are one-time information collections. The public reporting burden for this collection of information is estimated to average:

• 1.5 hours per respondent.

“Burden” means the total time, effort, or financial resources expended by persons to generate, maintain, retain, and disclose or provide information to or for a Federal agency. This includes the time needed to review instructions; develop, acquire, install, and utilize technology and systems for the purposes of collecting, validating, and verifying information, processing and maintaining information, and disclosing and providing information; adjust the existing ways to comply with any previously applicable instructions and requirements, train personnel to be able to respond to a collection of information; search data sources, complete and review the collection of information; and transmit or otherwise disclose the information.

Respondents/Affected Entities: Lessors conducting business in areas of high risk for lead poisoning in St. Louis, Missouri; Lessees living in areas of high risk for lead poisoning in St. Louis, Missouri.

Estimated Number of Respondents: Approximately 150 respondents in areas of high risk for lead poisoning in St. Louis, Missouri.

Frequency of Response: Twice (EPA Region 7 will conduct a follow-up survey in FY 2007).

Estimated Total Annual Hour Burden: 225 hours.

Estimated Total Annualized Cost Burden: $10,715.

Dated: September 10, 2004.
William A. Spratlin,
Director, Air, RCRA, and Toxics Division, U.S. Environmental Protection Agency, Region 7.

Draft List of Data Elements To Be Included in Collection of Information

Landlord Questions

• Did you provide the tenant with a copy of the pamphlet, Protect Your Family From Lead In Your Home before you rented the housing unit to them?

• Did you provide the tenant with a copy of the Lead Warning Statement before you rented the housing unit to them?

• Do you have records and/or reports regarding lead-based paint for the housing unit rented to the tenant? If yes, did you provide the tenants with a copy of the records and/or reports regarding lead-based paint for the housing unit rented to the tenant before you rented the housing unit to them?

• Did you complete a disclosure form and have the tenants sign and date it before you rented the housing unit to them?

Tenant Questions

• Did you receive the pamphlet, Protect Your Family From Lead In Your Home from the landlord before you rented the housing unit? If yes, did you read the pamphlet, Protect Your Family From Lead In Your Home? If yes, did you make behavior changes because of reading the pamphlet, Protect Your Family From Lead In Your Home?

[FR Doc. 04-21285 Filed 9-21-04; 8:45 am]

BILLING CODE 6560-50-P